DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of November 27 through December 1, 2006.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-60,355; Xyron, Inc., Garden Grove, CA: October 26, 2005.

The following certifications have been issued. The requirements of Section 222(a)(2)(B) (shift in production) of the Trade Act have been met.

TA-W-60,332; Valley-Dynamo, Richland Hills, TX: October 26, 2005.

The following certifications have been issued. The requirements of Section 222(b) (supplier to a firm whose workers are certified eligible to apply for TAA) of the Trade Act have been met.

TA-W-60,455; Malabar Manufacturing, Inc., On-Site Leased Workers From Time Services, Hudson, MI: November 16, 2005.

The following certifications have been issued. The requirements of Section 222(b) (downstream producer for a firm whose workers are certified eligible to apply for TAA based on increased imports from or a shift in production to Mexico or Canada) of the Trade Act have been met.

None.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-59,894; HTC Sales Corporation, dba HTC Products, Inc., Royal Oak, MI: August 2, 2005.

TA-W-60,280; Parkdale America, LLC, Eden, NC: October 1, 2005.

TA-W-60,284; B and B Swimwear, Inc., Jefferson, NC: October 20, 2005.

TA-W-60,317; General Ribbon Corporation, Chatsworth, CA: October 25, 2005.

TA-W-60,342; General Cable Corporation, Telecommunications Division, Lawrenceburg, KY: October 29, 2005.

TA-W-60,426; Haldex Brakes Products, Paris, TN: November 13, 2005.

TA-W-60,242; Thornton Fashion Designs, Inc., San Francisco, CA: October 1, 2005.

TA-W-60,283; Parker Specialty Products, Engineered Seals Division, Waukesha, WI: October 20, 2005.

TA-W-60,312; Dana Corporation, Sealing Products, Fulton, KY: October 14, 2005.

TA-W-60,344; Georgia Pacific Corporation, Softwood Lumber Division, El Dorado, AR: October 30, 2005.

TA-W-60,346; Tubular Technologies LLC, Welcome, NC: October 27, 2005.

TA-W-60,357; Adapto Indiana, Inc., South Bend, IN: November 1, 2005.

TA-W-60,437; Euclid Industries, Inc., Manpower, Inc., Bay City, MI: November 13, 2005.

TA-W-60,041; Delphi Corporation, Automotive Holding, Needmore Rd, Plant 3, Dayton, OH: August 24, 2005.

The following certifications have been issued. The requirements of Section 222(a)(2)(B) (shift in production) and Section 246(a)(3)(A)(ii) of the Trade Act have been met.

TA-W-60,247; Advanced Technology Services, Working On-Site at Eaton Corporation, Vinita, OK: October 13, 2005.

TA-W-60,304; Gemtron Corporation, A Subsidiary of Schott AG, Vincennes, IN: October 20, 2005.

TA-W-60,358; Calhoun Apparel, Inc., Calhoun City, MS: October 30, 2005.

TA-W-60,370; Radio Frequency Systems, Inc., Microwave Antenna Division, Meriden, CT: November 6, 2005.

TA-W-60,370A; Radio Frequency Systems, Inc., Cable Assembly Division, Meriden, CT: November 6, 2005.

TA-W-60,402; Hayes Products, LLC, A Division of BHH Management, Inc., Buena Park, CA: November 7, 2005.

TA-W-60,418; Vesuvius USA, A Subsidiary of Cookson America, Including On-Site Leased Workers of Westaff, Fisher, IL: November 10, 2005.

TA-W-60,419; I & W Industries, On-Site Leased Workers of Northern Staffing, Traverse City, MI: November 9, 2005.

TA-W-60,453; Black and Decker, Fayetteville Site, Employment Control, Inc, Fayetteville, NC: December 17, 2006.

TA-W-60,469; Integrated Manufacturing Technologies (IMT), Formerly Pullbrite, Inc., Elgin, TX: November 21, 2005.

TA-W-60,176; Flextronics, Semiconductor Division, San Jose, CA: September 29, 2005.

TA-W-60,235; Fiskars Aquapore, Phoenix, Arizona Division, Tolleson, AZ: September 13, 2005.

TA-W-60,444; Thermo Fisher Scientific RMSI, Environmental Instruments Division, Santa Fe, NM: November 13, 2005.

TA-W-60,461; Davis Furniture Industries, Inc., DBA Astro-Lounger, Houlka, Ms: November 17, 2005.

TA-W-60,481; Neptco, Lenoir, NC: November 22, 2005.

The following certifications have been issued. The requirements of Section 222(b) (supplier to a firm whose workers are certified eligible to apply for TAA) and Section 246(a)(3)(A)(ii) of the Trade Act have been met.

None.

The following certifications have been issued. The requirements of Section 222(b) (downstream producer for a firm whose workers are certified eligible to apply for TAA based on increased imports from or a shift in production to Mexico or Canada) and Section 246(a)(3)(A)(ii) of the Trade Act have been met.

None.

Negative Determinations for Alternative Trade Adjustment Assistance

In the following cases, it has been determined that the requirements of 246(a)(3)(A)(ii) have not been met for the reasons specified.

The Department has determined that criterion (1) of Section 246 has not been met. Workers at the firm are 50 years of age or older.

TA-W-60,355; Xyron, Inc., Garden Grove, CA.

TA-W-60,455; Malabar Manufacturing, Inc., On-Site Leased Workers From Time Services, Hudson, MI.

The Department has determined that criterion (2) of Section 246 has not been met. Workers at the firm possess skills that are easily transferable.

TA-W-60,332; Valley-Dynamo, Richland Hills, TX.

The Department has determined that criterion (3) of Section 246 has not been met. Competition conditions within the workers' industry are not adverse.

None.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

TA-W-60,403; Metolius Mountain Products, Bend, OR.

TA-W-60,408; Textram, Inc., Charlotte, NC.

The investigation revealed that criteria (a)(2)(A)(I.B.) (Sales or production, or both, did not decline) and (a)(2)(B)(II.B.) (shift in production to a foreign country) have not been met.

TA-W-60,413A; Bendix Commercial Vehicle Systems (C.V.S.), Air Disk Brake Products, Frankfort, KY.

The investigation revealed that criteria (a)(2)(A)(I.C.) (increased imports) and (a)(2)(B)(II.B.) (shift in production to a foreign country) have not been met.

TA-W-60,002; Pfizer Global Manufacturing, Augusta, GA.

TA-W-60,239; Fischbein, LLC, A Division of Fischbein-Inglett Co., Augusta, GA.

TA-W-60,254; Consolidated Metco, Inc., A Subsidiary of Amsted, Clackamas, OR.

TA-W-60,258; Woodbridge Foam Corporation, Atlanta Plant, Lithonia, GA.

TA-W-60,337; Production Products, Manufacturing and Sales, Inc., Bonne Terre, MO.

TA-W-60,356; Turtle Wax, Inc., Willowbrook, IL.

The investigation revealed that the predominate cause of worker separations is unrelated to criteria (a)(2)(A)(I.C.) (increased imports) and (a)(2)(B)(II.C) (shift in production to a foreign country under a free trade agreement or a beneficiary country under a preferential trade agreement, or there has been or is likely to be an increase in imports).

None.

The workers' firm does not produce an article as required for certification under Section 222 of the Trade Act of 1974.

TA-W-60,318; Delphi Corporation, Automotive Holdings Group, Job Bank, Anaheim, CA.

TA-W-60,388; Hartz and Company, New York, NY.

TA-W-60,400; Unumprovident Corporation, Information Technology Division, Portland, ME.

TA-W-60,430; JP Morgan Chase Bank, N.A., JP Morgan Chase and Company, Louisville, KY.

The investigation revealed that criteria of Section 222(b)(2) has not been met. The workers' firm (or subdivision) is not a supplier to or a downstream producer for a firm whose workers were certified eligible to apply for TAA.

TA-W-60,322; Western Textile Products Co., Piedmont, SC.

I hereby certify that the aforementioned determinations were issued during the period of November 27 through December 1, 2006. Copies of these determinations are available for inspection in Room C-5311, U.S. Department of Labor, 200 Constitution Avenue, NW., Washington, DC 20210 during normal business hours or will be mailed to persons who write to the above address.

Dated: December 5, 2006.
Linda G. Poole,
Certifying Officer, Division of Trade Adjustment Assistance.

[FR Doc. E6-21104 Filed 12-11-06; 8:45 am]

BILLING CODE 4510-30-P